FEDERAL COMMUNICATIONS COMMISSION

[DA 17-724]

Opening of First Priority Filing Window for Eligible Full Power and Class A Television Stations

AGENCY: Federal Communications Commission.

ACTION: Notice.

SUMMARY: This document announces that the first priority filing window for eligible full power and Class A television stations to file applications for alternate channels or expanded facilities will be open from August 9, 2017 through September 8, 2017.

DATES: August 8, 2017.

FOR FURTHER INFORMATION CONTACT: Joyce Bernstein, Joyce.Bernstein@fcc.gov, or Kevin Harding, Kevin.Harding@fcc.gov, Video Division, Media Bureau, Federal Communications Commission.

SUPPLEMENTARY INFORMATION: Auction 1000, which was conducted pursuant to Title VI of the Middle Class Tax Relief and Job Creation Act of 2012, was completed on April 13, 2017, and the Commission initiated a transition period during which broadcast television stations that received new channel assignments in the April 13, 2017 Closing and Channel Reassignment Public Notice will be reauthorized and relicensed. The deadline for applications for construction permits consistent with the requirements of that Public Notice were due July 12, 2017.

The first priority filing window, which opens on Wednesday, August 9, 2017 and closes at 11:59 p.m. EDT on Friday, September 8, 2017, is limited to: (1) 25 reassigned stations that were granted a waiver of the July 12, 2017 filing deadline because they were “unable to construct” the specified facilities assigned to them in the Closing and Channel Reassignment Public Notice; (2) stations entitled to protection in the repacking process that are predicted to experience a loss of population served in excess of one percent as a result of the auction repacking process; and (3) Class A stations that did not receive protection and were displaced in the repacking process. Applications filed by stations that received a waiver of the July 12, 2017 filing deadline and displaced Class A stations are exempt from a filing fee.

Eligible stations may file applications for expanded facilities that qualify as a minor change under the Commission's rules, or for alternate channels which will be treated as major change applications under the Commission's rules. Applicants must protect the construction permit facilities of stations assigned to new channels, whether those stations' applications have been granted or remain pending, and must also protect the facilities specified in applications that were filed before the April 2013 freeze on applications proposing to extend a station's contour. Applications filed by displaced Class A stations must also demonstrate that the proposal would not cause interference to a low power television or translator facility previously authorized or proposed. A station that files an application that is incomplete or defective will be afforded an opportunity to submit an amendment to correct any defects, and failure to correct will result in dismissal of the application. If an application filed by (1) a station that was unable to construct the facilities specified in the Closing and Channel Reassignment Public Notice or (2) a displaced Class A station is dismissed, then the station must file a new application within 15 days of dismissal and pay the requisite filing fee.

Applications filed during the first priority filing window will be treated as filed on the last day of the window for purposes of determining mutual exclusivity. Stations with mutually exclusive applications will be notified and given a 90-day period to resolve their mutual exclusivity by proposing a technical solution or settlement in an amendment to their pending applications.

Federal Communications Commission.
Barbara Kreisman,
Chief, Video Division, Media Bureau.

[FR Doc. 2017-16663 Filed 8-7-17; 8:45 am]

BILLING CODE 6712-01-P